DEPARTMENT OF TRANSPORTATION

Surface Transportation Board

[Docket No. FD 35475]

Port of Ivory, LLC—Operation Exemption—Line of Railroad in Tulare County, CA

Port of Ivory, LLC (Port), a limited liability company and noncarrier, has filed a verified notice of exemption under 49 CFR 1150.31 to operate about 1,500 track feet of existing railroad trackage inside an existing industrial facility it owns in Tulare County, California. The current rail facilities on Port's property consist of 2 sidings that connect with a rail line operated by the San Joaquin Valley Railroad Company (SJVR) at a point known as Ivory (milepost 232.3 on SJVR's Exeter Subdivision).¹ Port currently conducts operations as a private switching carrier to at least 2 customers located inside its facility, but now wishes to convert its operations to common carrier rail service. Port states that, upon receipt of the requested exemption, it intends to reconstruct and upgrade the existing trackage and extend it as indicated on the map attached to its notice.

¹ Port states that, because its track is located inside an industrial facility, it has no mileposts.

Port states that it intends to consummate the transaction 30 days after the exemption was filed, which will be April 3, 2011, the effective date of the exemption.

Port certifies that its projected revenues as a result of this transaction will not result in Port becoming a Class I or Class II rail carrier and further certifies that its projected annual revenue will not exceed $5 million.

If the verified notice contains false or misleading information, the exemption is void ab initio. Petitions to revoke the exemption under 49 U.S.C. 10502(d) may be filed at any time. The filing of a petition to revoke will not automatically stay the effectiveness of the exemption. Stay petitions must be filed no later than March 25, 2011 (at least 7 days before the exemption becomes effective).

An original and 10 copies of all pleadings, referring to Docket No. FD 35475, must be filed with the Surface Transportation Board, 395 E Street, SW., Washington, DC 20423-0001. In addition, a copy of each pleading must be served on John D. Heffner, John D. Heffner, PLLC, 1750 K Street, NW., Suite 200, Washington, DC 20006.

Board decisions and notices are available on our Web site at http://www.stb.dot.gov.

Decided: March 14, 2011.
By the Board, Rachel D. Campbell, Director, Office of Proceedings.
Jeffrey Herzig,
Clearance Clerk.

[FR Doc. 2011-6228 Filed 3-17-11; 8:45 am]

BILLING CODE 4915-01-P